DEPARTMENT OF COMMERCE

National Oceanic and Atmospheric Administration

[XRIN: 0648-XA52]

Pacific Fishery Management Council; Public Meeting

AGENCY: National Marine Fisheries Service (NMFS), National

Oceanic and Atmospheric Administration (NOAA), Commerce.

ACTION: Notice of public meetings.

SUMMARY: The Pacific Fishery Management Council (Council) and its advisory entities will hold public meetings.

DATES: The Council and its advisory entities will meet June 9-15, 2007 . The Council meeting will begin on Monday, June 11, at 2 p.m., reconvening each day through Friday, June 15. All meetings are open to the public, except a closed session will be held from 2 p.m. until 3 p.m. on Monday, June 11 to address litigation and personnel matters. The Council will meet as late as necessary each day to complete its scheduled business.

ADDRESSES: The meetings will be held at the Crowne Plaza Hotel, 1221 Chess Drive, Foster City, CA 94404; telephone: (650) 570-5700.

Council address: Pacific Fishery Management Council, 7700 NE Ambassador Place, Suite 101, Portland, OR 97220.

FOR FURTHER INFORMATION CONTACT: Dr. Donald O. McIsaac, Executive Director; telephone: (503) 820-2280.

SUPPLEMENTARY INFORMATION: The following items are on the Council agenda, but not necessarily in this order:

A. Call to Order

1. Opening Remarks and Introductions

2. Roll Call

3. Executive Director's Report

4. Approve Agenda

B. Administrative Matters

1. Future Council Meeting Agenda Planning

2. Council Operating Procedure for Providing Highly Migratory Species Management Recommendations to Regional Fishery Management Organizations

3. Recreational Fishery Information Network Data and Sampling Refinements

4. Council Operating Procedure for Reviewing Proposed Changes to Groundfish Essential Fish Habitat (EFH) and Establishing a Groundfish EFH Oversight Committee

5. Magnuson-Stevens Act Reauthorization Implementation

6. Legislative Matters

7. Fiscal Matters

8. Appointments to Advisory Bodies, Standing Committees, and Other Forums, and Changes to Council Operating Procedures as Needed

9. Approval of Council Meeting Minutes

10. Council Three-Meeting Outlook, Draft September 2007 Council Meeting Agenda, and Workload Priorities

C. Open Public Comment

Comments on Non-Agenda Items

D. Habitat

Current Habitat Issues

E. Groundfish Management

1. NMFS Report

2. Proposed Process and Schedule for Developing Biennial (2009-10) Harvest Specifications and Management Measures

3. Shore-Based Pacific Whiting Monitoring Program

4. Amendment 22: Limiting Entry in the Open Access Groundfish Fishery

5. Preliminary Review of Exempted Fishing Permits for 2008

6. Stock Assessments for 2009-10 Groundfish Fisheries

7. Consideration of Inseason Adjustments

8. Amendment 21: Intersector Allocation

9. Amendment 20: Trawl Rationalization Alternatives (Trawl Individual Quotas and Cooperatives)

10. Final Consideration of Inseason Adjustments (if needed)

11. Amendment 15: American Fisheries Act Issues

F. Coastal Pelagic Species Management

1. NMFS Report

2. Pacific Mackerel Stock Assessment and Harvest Guideline for 2007-08

SCHEDULE OF ANCILLARY MEETINGS
SATURDAY, June 9, 2007 |
Scientific and Statistical Committee
Groundfish Subcommittee | 1 p.m.
SUNDAY, June 10, 2007 |
Scientific and Statistical Committee
Groundfish Subcommittee | 9 a.m.
Groundfish Advisory Subpanel | 1 p.m.
Groundfish Management Team | 1 p.m.
MONDAY, June 11, 2007 |
Council Secretariat | 8 a.m.
Groundfish Advisory Subpanel | 8 a.m.
Groundfish Management Team | 8 a.m.
Scientific and Statistical Committee | 8 a.m.
Budget Committee | 8:30 a.m.
Habitat Committee | 9 a.m.
Legislative Committee | 10 a.m.
Enforcement Consultants | 4:30 p.m.
Groundfish Stock Assessment Question
and Answer Session | 7 p.m.
TUESDAY, June 12, 2007 |
Council Secretariat | 7 a.m.
California State Delegation | 7 a.m.
Oregon State Delegation | 7 a.m.
Washington State Delegation | 7 a.m.
Enforcement Consultants | 8 a.m.
Groundfish Advisory Subpanel | 8 a.m.
Groundfish Management Team | 8 a.m.
Scientific and Statistical Committee | 8 a.m.
WEDNESDAY, June 13, 2007 |
Council Secretariat | 7 a.m.
California State Delegation | 7 a.m.
Oregon State Delegation | 7 a.m.
Washington State Delegation | 7 a.m.
Enforcement Consultants | 8 a.m.
Groundfish Advisory Subpanel | 8 a.m.
Groundfish Management Team | 8 a.m.
Scientific and Statistical Committee | 8 a.m.
Trawl Individual Quota Committee | 8:30 a.m.
Olympic National Marine Sanctuary
Marine Habitat Research Report | 7 p.m.
THURSDAY, June 14, 2007 |
Council Secretariat | 7 a.m.
California State Delegation | 7 a.m.
Oregon State Delegation | 7 a.m.
Washington State Delegation | 7 a.m.
Groundfish Advisory Subpanel | 8 a.m.
Groundfish Management Team | 8 a.m.
Enforcement Consultants | As necessary
Informal Vessel Monitoring Program
Review with Industry | 7 p.m.
FRIDAY, June 15, 2007 |
Council Secretariat | 7 a.m.
California State Delegation | 7 a.m.
Oregon State Delegation | 7 a.m.
Washington State Delegation | 7 a.m.
Enforcement Consultants | As necessary

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 820-2280 at least 5 days prior to the meeting date.

Dated: May 21, 2007.
Tracey L. Thompson,
Acting Director, Office of Sustainable Fisheries, National Marine Fisheries Service.

[FR Doc. E7-10009 Filed 5-23-07; 8:45 am]

BILLING CODE 3510-22-S